DEPARTMENT OF ENERGY

Western Area Power Administration

Pacific Northwest-Pacific Southwest Intertie Project—Rate Order No. WAPA-192

AGENCY: Western Area Power Administration, DOE.

ACTION: Notice of proposed extension of transmission service rates.

SUMMARY: Western Area Power Administration (WAPA) proposes to extend its existing transmission service rates for the Pacific Northwest-Pacific Southwest Intertie Project (Intertie) through September 30, 2023. The proposed rates are unchanged from the existing transmission service rates under Rate Schedules INT-FT5 and INT-NFT4 that expire on September 30, 2020.

DATES: A consultation and comment period will begin June 22, 2020 and end July 22, 2020. WAPA will accept written comments anytime during the consultation and comment period.

ADDRESSES: Written comments and requests to be informed of Federal Energy Regulatory Commission (FERC) actions concerning the proposed transmission service rate extension submitted by WAPA to FERC should be sent to: Ms. Tracey LeBeau, Regional Manager, Desert Southwest Customer Service Region, Western Area Power Administration, P.O. Box 6457, Phoenix, Arizona 85005-6457, or email: dswpwrmrk@wapa.gov. WAPA will post information about the proposed transmission service rate extension and the written comments it receives to its website at: https://www.wapa.gov/regions/DSW/Rates/Pages/intertie-rates.aspx.

FOR FURTHER INFORMATION CONTACT: Ms. Tina Ramsey, Rates Manager, Desert Southwest Customer Service Region, Western Area Power Administration, P.O. Box 6457, Phoenix, Arizona 85005-6457, (602) 605-2565, or email: dswpwrmrk@wapa.gov.

SUPPLEMENTARY INFORMATION: On August 22, 2013, FERC approved and confirmed Rate Schedules INT-FT5 and INT-NFT4 under Rate Order No. WAPA-157 for a 5-year period through April 30, 2018.¹ WAPA's Administrator, under his authority, subsequently approved the use of the existing Intertie transmission service rates for short-term sales for the period between May 1, 2018, and September 21, 2018. The Deputy Secretary of Energy thereafter approved the transmission service rates on an interim basis from September 21, 2018, through December 3, 2018.² On December 3, 2018, FERC approved and confirmed the extension of Rate Schedules INT-FT5 and INT-NFT4 under Rate Order No. WAPA-181 through September 30, 2020.³ In accordance with 10 CFR 903.23(a),⁴ WAPA is proposing to extend the existing Intertie transmission service rates under Rate Schedules INT-FT5 and INT-NFT4 through September 30, 2023.

¹ Order Confirming and Approving Rate Schedules on a Final Basis, FERC Docket No. EF13-4-000, 144 FERC ¶ 61,143 (2013).

² 83 FR 47921 (Sept. 21, 2018)

³ Order Confirming and Approving Rate Schedules on a Final Basis, FERC Docket No. EF18-5-000, 165 FERC ¶ 62,137 (2018).

⁴ 50 FR 37835 (Sept. 18, 1985) and 84 FR 5347 (Feb. 21, 2019).

Extending these rate schedules through September 30, 2023, will provide WAPA and its customers time to evaluate the potential benefits of combining transmission service rates on Federal projects located within WAPA's Colorado River Storage Project Management Center (CRSP) and Desert Southwest Region (DSW). Ongoing efforts made towards combining transmission rates, which up to this time have been solely focused within DSW, have been expanded to include CRSP transmission system rates. Combining rates may lead to more efficient use of Federal transmission systems, diversify the customers who use those systems, and be financially advantageous. If, after a thorough evaluation, WAPA determines that combining transmission service rates will produce material benefits, it would initiate a public process before making a decision to combine the rates.

Additionally, repayments for federally funded project investments are due to Treasury at the end of fiscal years 2021, 2022, and 2023. Project repayment is consistent with the cost recovery criteria set forth in DOE Order RA 6120.2. The existing rates provide sufficient revenue to pay these required payments and all annual costs including interest expense.

Legal Authority

By Delegation Order No. 00-037.00B, effective November 19, 2016, the Secretary of Energy delegated: (1) The authority to develop power and transmission rates to WAPA's Administrator; (2) the authority to confirm, approve, and place such rates into effect on an interim basis to the Deputy Secretary of Energy; and (3) the authority to confirm, approve, and place into effect on a final basis, to remand, or to disapprove such rates to FERC. By Delegation Order No. 00-002.00S, effective January 15, 2020, the Secretary of Energy also delegated the authority to confirm, approve, and place such rates into effect on an interim basis to the Under Secretary of Energy. By Redelegation Order No. 00-002.10E, effective February 14, 2020, the Under Secretary of Energy further delegated the authority to confirm, approve, and place such rates into effect on an interim basis to the Assistant Secretary for Electricity.

In accordance with 10 CFR 903.23(a), WAPA has determined that it is not necessary to hold public information or public comment forums for this rate action but is initiating a 30-day consultation and comment period to give the public an opportunity to comment on the proposed extension. WAPA will review and consider all timely comments at the conclusion of the consultation and comment period and make adjustments to the proposal as appropriate.

Signing Authority

This document of the Department of Energy was signed on June 16, 2020, by Mark A. Gabriel, Administrator, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 17, 2020.
Treena V. Garrett,
Federal Register Liaison Officer, U.S. Department of Energy.

[FR Doc. 2020-13363 Filed 6-19-20; 8:45 a.m.]

BILLING CODE 6450-01-P